DEPARTMENT OF HOUSING AND URBAN DEVELOPMENT

[Docket No FR-5044-N-14]

Notice of Proposed Information Collection for Public Comment: Public Housing Agency Plans

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

PHAs are required to submit annual and 5-Year PHA Plans to HUD for tenant based assistance and operating subsidies. These Plans advise HUD, residents, and members of the public of the PHA's mission for serving low-income and very lowincome families, and the PHA's operations, programs, services, and strategies for addressing those needs.

DATES: Comments Due Date: October 23, 2006.

ADDRESSES: Interested persons are invited to submit comments regarding this proposal. Comments should refer to the proposal by name and/or OMB Control number (25770226) and should be sent to: HUD Desk Officer, Office of Management and Budget, New Executive Office Building, Washington, DC 20503; facsimile: 202-395-6974.

FOR FURTHER INFORMATION CONTACT: Lillian Deitzer, Reports Management Officer, QDAM, Department of Housing and Urban Development, 451 Seventh Street, SW., Washington, DC 20410; e-mail Lillian Deitzer at Lillian L. Deitzer@HUD.GOV or by telephone at (202) 708-2374. (This is not a toll-free number). Copies of available documents submitted to OMB may be obtained from Ms. Deitzer or from HUD's Web site at http://www5.hud.gov:63001/po/i/cbts/collectionsearch.cfm.

SUPPLEMENTARY INFORMATION: This notice informs the public that the Department of Housing and Urban Development has submitted to OMB a request for approval of the Information collection described below. As required by the Paperwork Reduction Act of 1995 (44 U.S.C. Chapter 35 as amended), this notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

The notice also lists the following information:

Title of Proposal: Public Housing Agency (PHA) Annual and 5-Year Plan.

OMB Control Number: 2577-0226.

Description of the Need for the Information and Proposed Use: Public Housing Agencies (PHAs) submit an annual plan for each fiscal year for which the PHA received tenant-based assistance and public housing operating subsidy. This plan provides a framework for local accountability and to the extent possible, an easily identifiable source by which public housing residents, participants in the housing choice voucher program, and other members of the public may locate housing and services. The PHA plan is a web-based application (allowing PHAs to retrieve the applicable templates) that allows PHAs to provide their plans to HUD via the Internet. The system allows HUD to track plans every year with limited reporting and any changes from the previous submission.

This Notice collection proposes to significantly streamline the Five-Year PHA Plan and Annual Plan process by limiting annual plan submissions to only four elements, as required by statute, and any element that is challenged. This revision further streamlines the PHA Annual Plan process by allowing PHAs to certify when no changes have occurred to these documents since its last submission. These changes are proposed to take effect for all PHAs with fiscal years beginning April 1, 2007.

The new streamlined Plan template (HUD-50075) will be used by all PHAs, including small PHAs, high performance PHAs, standard performance PHAs, poor performance PHAs, and Section 8 only PHAs. The new streamlined Plan template eliminates the use of the HUD-50075-SF and HUD-50075-SA since all PHAs will use the revised HUD-50075. The new Five-Year and Annual Plan template is reduced from a 42-page document to a 10-page document.

The new Plan template streamlines the process for PHAs, having only to indicate whether or not a component is being updated and submit for field office review only those plan content documents required by law and/or regulation (capital improvements, demolition and disposition, deconcentration, civil rights, and challenged elements). Using the revised Plan template (HUD-50075) for annual plans, PHAs will simply indicate by checking yes or no whether or not a component in their last approved Plan is being updated with the current Five-Year or Annual Plan submission cycle. If no change has been made, significant or otherwise, to a PHA's (1) Capital Fund Program Annual Statement, (2) Demolition and Disposition Statement, or (3) Deconcentration Policy, since the submission of its last approved plan, a PHA may simply certify that there has been no change to one or more of these documents and avoid resubmission in the current cycle. Five-Year plans will continue to include all elements required under the regulations (24 CFR 903.7).

The newly revised Five-Year and Annual Plan template, as proposed, eliminates unnecessary submission requirements, helping to reduce the administrative burden on PHAs, as well as associated costs.

Agency Form Number: HUD-50075, HUD-50075-SA, HUD-50075-SF.

Members of the Affected Public: State or local government.

Estimation of the total number of hours needed to prepare the information collection including number of respondents:

PHA type—Plan type and frequency of plan | Standard performers 5-year plan every 5 years (HUD-50075) | High performers 5-year plan every 5 years (HUD- | Troubled (poor) performers 5-year plan every 5 years (HUD- | Small PHAs 5-year plan every 5 years (HUD-50075) | Section 8 only PHAs 5-year plan every 5 years (HUD-50075) | All PHAs w/cap fund annual plan for 4 years (HUD-50075) | All PHAs w/o cap fund annual plan for 4 years (HUD-50075)
PHA Identification Page | 0.1 | 0.1 | 0.1 | 0.1 | 0.1 | 0.1 | 0.1
PHA PLAN COMPONENTS:
1. Housing Needs | 4 | 2 | 0 | 4 | 2 | 0 | 0
2. Financial Resources | 2 | 2 | 2 | 2 | 1 | 0 | 0
3. Deconcentration and Policies on Eligibility, Selection, and Admissions (including Site-based waiting lists) | 2 | 2 | 2 | 2 | 2 | 0 | 0
4. Rent Determination Policies | 1 | 1 | 1 | 1 | 1 | 0
5. Operations & Management | 1 | 0 | 1 | 0 | 1 | 0 | 0
6. Grievance Procedures | 1 | 0 | 1 | 0 | .5 | 0 | 0
7. Capital Improvements Needs | 16 | 16 | 16 | 8 | 0 | 11 | 0
8. Demolition and Disposition | 1 | 1 | 1 | 1 | 0 | 0
9. Designation of Housing | 1 | 0 | 1 | 0 | 0 | 0 | 0
10. Conversions of Public Housing | 1 | 0 | 1 | 0 | 0 | 0 | 0
11. All Homeownership Programs including Section 8(y) | 1 | 1 | 0 | 1 | 1 | 0 | 0
12. Community Service and Self-Sufficiency | 2 | 0 | 2 | 2 | 2 | 0 | 0
13. Safety and Crime Prevention | 0.5 | 0 | 0.5 | 0.5 | 0 | 0 | 0
14. Pets | 1 | 0 | 0 | 0 | 0 | 0 | 0
15. Civil Rights Certification | 0.5 | 0.5 | 0.5 | 0.5 | 0.5 | 0.5 | 0.5
16. Audit | 0.5 | 0 | 0.5 | 0 | .05 | 0 | 0
17. Asset Management | 2 | 0 | 2 | 0 | 0 | 0 | 0
18. Additional Other Information: Progress meeting 5-Year goals; Resident membership of Board; RAB recommendations and PHA response; PHA statement of consistency with Consolidated Plan; PHA criteria for substantial deviations and significant amendments; List of supporting documents | 4 | 4 | 4 | 4 | 2 | 2 | 2
Use of Project-based vouchers | 0.5 | 0.5 | 0.5 | 0.5 | 0.5 | 0 | 0
Budget/MOA/plan to improve (Troubled PHAs only) | 0 | 0 | 2 | 0 | 0 | 0 | 0
Compliance Certifications | .05 | .05 | .05 | .05 | .05 | .05 | .05
BURDEN HOURS Per Response | 42.15 | 30.15 | 38.15 | 26.65 | 13.7 | 13.65 | 2.65
Number of Respondents This Plan Type | 369 | 353 | 271 | 2116 | 925 | 3109 | 925
Total Burden Hours All Respondents This Plan Type ¹ | ¹ 15,553 | ¹ 10,643 | ¹10,339 | ¹ 56,391 | ² 12,672 | ² 42,438 | ² 2,451
Total burden over five years | 15,553 | 10,643 | 10,339 | 56,391 | 12,672 | 169,752 | 9,804
¹ yr
² yr x 4 yr

Total Burden Hours Over Five Years for all PHAs 285,154

Average Annual Burden for PHAs Each Year 57,031

Annual Burden Per PHA 14.13

Status of the Proposed Information Collection: Reinstatement of previously approved collection.

Authority: Section 3506 of the Paperwork Reduction Act of 1995, 44 U.S.C. chapter 35, as amended.

Dated: August 16, 2006.
Mary Schulhof,
Senior Program Analyst.

[FR Doc. E6-13899 Filed 8-21-06; 8:45 am]

BILLING CODE 4210-67-P